DEPARTMENT OF JUSTICE

Drug Enforcement Administration

21 CFR Part 1310

[Docket No. DEA-257C]

RIN 1117-AA93

Changes in the Regulation of Iodine Crystals and Chemical Mixtures Containing Over 2.2 Percent Iodine; Correction

AGENCY: Drug Enforcement Administration (DEA), Justice

ACTION: Final rule; correction.

SUMMARY: On July 2, 2007, the Drug Enforcement Administration (DEA) published a final rule in the Federal Register changing the regulation of iodine under the Controlled Substances Act. Several amendatory instructions amending the Code of Federal Regulations (CFR) to implement this rulemaking were published in error. This correction corrects those errors.

EFFECTIVE DATES: This correction is effective July 24, 2007.

FOR FURTHER INFORMATION CONTACT: Christine A. Sannerud, PhD, Chief, Drug and Chemical Evaluation Section, Office of Diversion Control, Drug Enforcement Administration, Washington, DC 20537 at (202) 307-7183.

SUPPLEMENTARY INFORMATION: On July 2, 2007, the Drug Enforcement Administration (DEA) published a Final Rule in the Federal Register (72 FR 35920) changing the regulation of iodine under the Controlled Substances Act. As part of that rulemaking, several sections in Part 1310 of Title 21 of the Code of Federal Regulations (CFR) were amended. However, DEA previously published several documents in the Federal Register adding similarly designated paragraphs. Thus, the final rule regarding the regulation of iodine published July 2, 2007 at 72 FR 35920 inadvertently removed those previous amendments. Therefore, this document corrects the amendments to the affected CFR sections to correctly designate paragraphs, thus reflecting all amendments to Part 1310 of Title 21 of the CFR.

Accordingly, the final rule published July 2, 2007, at 72 FR 35920 (FR Doc. E7-12736) is corrected as follows:

PART 1310—RECORDS AND REPORTS OF LISTED CHEMICALS AND CERTAIN MACHINES [AMENDED]

1. On page 35931, amendment 4 is corrected to read as follows: “4. Section 1310.02 is amended by adding a new paragraph (a)(29), removing paragraph (b)(11), and redesignating paragraph (b)(12) as paragraph (b)(11) to read as follows:”

§ 1310.02 Substances covered.

* * * * *

(a) * * *

(29) Iodine | 6699

* * * * *

2. On page 35931, amendment 5 is corrected to read as follows: “5. Section 1310.04 is amended by removing paragraph (f)(2)(ii)(H); redesignating (f)(2)(ii)(I) and (f)(2)(ii)(J) as (f)(2)(ii)(H) and (f)(2)(ii)(I); and adding a new paragraph (g)(1)(vii) to read as follows:”

§ 1310.04 Maintenance of records.

* * * * *

(g) * * *

(1) * * *

(vii) Iodine

* * * * *

3. On page 35931, amendment 7 is corrected to read as follows: “7. Section 1310.09 is amended by adding new paragraph (i) to read as follows:”

§ 1310.09 Temporary exemption from registration.

* * * * *

(i) Each person required by section 302 of the Act (21 U.S.C. 822) to obtain a registration to manufacture, distribute, import, or export regulated iodine, including regulated iodine chemical mixtures pursuant to §§ 1310.12 and 1310.13, is temporarily exempted from the registration requirement, provided that the Administration receives a proper application for registration or application for exemption for a chemical mixture containing iodine on or before August 31, 2007. The exemption will remain in effect for each person who has made such application until the Administration has approved or denied that application. This exemption applies only to registration; all other chemical control requirements set forth in the Act and parts 1309, 1310, and 1313 of this chapter remain in full force and effect. Any person who distributes, imports, or exports a chemical mixture containing iodine whose application for exemption is subsequently denied by the Administration must obtain a registration with the Administration. A temporary exemption from the registration requirement will also be provided for these persons, provided that the Administration receives a properly completed application for registration on or before 30 days following the date of official Administration notification that the application for exemption has not been approved. The temporary exemption for such persons will remain in effect until the Administration takes final action on their registration application.

Dated: July 17, 2007.
Joseph T. Rannazzisi,
Deputy Assistant Administrator, Office of Diversion Control.

[FR Doc. E7-14317 Filed 7-23-07; 8:45 am]

BILLING CODE 4410-09-P